NUCLEAR REGULATORY COMMISSION

[NRC-2011-0183]

Low-Level Radioactive Waste Management and Volume Reduction

AGENCY: Nuclear Regulatory Commission.

ACTION: Policy statement; issuance.

SUMMARY: The U.S. Nuclear Regulatory Commission (NRC or the Commission) is revising its 1981 Policy Statement on Low-Level Radioactive Waste (LLRW) Volume Reduction (Policy Statement). This statement encouraged licensees to take steps to reduce the amount of waste generated and to reduce the volume of waste once generated. The purpose of this revised statement is to recognize that progress in reducing waste volume has been achieved since the 1981 Policy Statement was published, and to acknowledge that factors other than volume reduction may be considered by licensees to determine how best to manage their LLRW.

DATES: This Policy Statement is effective on May 1, 2012.

ADDRESSES: Please refer to Docket ID NRC-2011-0183 when contacting the NRC about the availability of information for this policy statement. You may access information and comment submissions related to this policy statement, which the NRC possesses and are publicly available, by the following methods:

• Federal Rulemaking Web site: Go to http://www.regulations.gov and search for Docket ID NRC-2011-0183. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Donald Lowman, Office of Federal and State Materials and Environmental Management Programs, U.S. Nuclear Regulatory Commission, Washington, DC 20555-0001; telephone: 301-415-5452, email: Donald.Lowman@nrc.gov.

SUPPLEMENTARY INFORMATION:

I. Background

In 1981, the NRC published a Policy Statement (46 FR 51100; October 16, 1981) regarding the volume reduction of LLRW. The Policy Statement addressed:

• The need for a volume reduction policy; and

• The need for waste generators to minimize the quantity of waste produced.

For 30 years, this Policy Statement has conveyed the Commission's expectations that generators of LLRW should reduce the volume of waste shipped for disposal at licensed commercial waste disposal facilities. The Commission uses policy statements to communicate expectations about matters relating to activities that are within NRC jurisdiction and of importance to the Commission. Policy statements help to guide the activities of the NRC staff and licensees. However, they are not regulations and are not accorded the status of a regulation within the meaning of the Administrative Procedure Act. The Agreement States, which are responsible for overseeing their material licensees, cannot be required to implement the elements of a policy statement because such statements, unlike NRC regulations, are not a matter of compatibility. Additionally, policy statements cannot be considered binding upon, or enforceable against, NRC or Agreement State licensees or certificate holders.

On April 7, 2010, the NRC staff issued SECY-10-0043, “Blending of Low-Level Radioactive Waste” (ADAMS Accession No. ML090410531), and referenced the Policy Statement in response to stakeholder comments that large-scale blending might not be consistent with the Policy Statement goal of achieving reduced waste volumes and might actually increase waste volumes. Although the Commission disagreed that blending would necessarily increase the volume of waste, it recognized the need to clarify the Policy Statement to better explain the role of volume reduction in the context of LLRW management. Therefore, the Commission directed the staff to update the Policy Statement to recognize the progress that has been achieved in waste reduction since 1981, and to acknowledge that volume reduction continues to be important, and that other risk-informed, performance-based approaches to managing waste are also appropriate for managing LLRW safely.

A revised draft of the Policy Statement, “Volume Reduction and Low-Level Radioactive Waste Management,” was published in the Federal Register for comment on August 15, 2011 (76 FR 50500), with the comment period ending on October 14, 2011.

The NRC received written comments on the draft Policy Statement and considered these comments when finalizing the Policy Statement. None of the comments resulted in changes to the basic principles of the Policy Statement and the changes made to the draft Policy Statement were limited. Responses to these comments can be found in ADAMS (Accession No. ML120090117).

II. Congressional Review Act

In accordance with the Congressional Review Act of 1996, the NRC has determined that this action is not a major rule and has verified this determination with the Office of Information and Regulatory Affairs of the Office of Management and Budget (OMB).

III. Policy Statement of the U.S. Nuclear Regulatory Commission on Low-Level Radioactive Waste Management and Volume Reduction

Summary

In 1981, the Commission published a Policy Statement (46 FR 51100; October 16, 1981) regarding the volume reduction of LLRW. In October 2010, the Commission directed the NRC staff to revise the Policy Statement (ADAMS Accession No. ML102861764) including updating to acknowledge that volume reduction continues to be important and adding that risk-informed, performance-based approaches to managing waste are also needed to safely manage LLRW.

Policy Statement

The focus of any LLRW management program should be public health and safety. Such programs often include waste minimization efforts and the Commission recognizes the substantial progress made by licensees in reducing volumes of LLRW shipped for disposal since the publication of the 1981 Policy Statement. The Congress, States, LLRW Compacts and nuclear industry groups have also played a central part in this effort by encouraging waste minimization and volume reduction practices. Widespread use of these practices has resulted in a significant reduction in the amount of LLRW generated by licensees and the volume shipped for disposal. The Commission recognizes that the high cost of LLRW disposal has also been a factor, along with limitations on LLRW disposal access, which has resulted in increased use of volume reduction and waste minimization techniques.

The Commission continues to believe that volume reduction is important to the management of LLRW. A continued focus on volume reduction will extend the operational lifetime of the existing commercial LLRW disposal sites and will reduce the number of waste shipments to disposal facilities. Therefore, the Commission encourages licensees to continue to adopt procedures that will minimize the volume of waste being transferred to disposal facilities.

The Commission also recognizes that volume reduction is only one aspect of an effective LLRW management program. Although the Commission continues to favor the disposal of LLRW over storage, it recognizes that licensees may safely manage waste in a variety of ways, consistent with NRC regulations and guidance. As part of ensuring public health and safety, licensees should consider reductions in occupational exposures and security in determining how best to manage LLRW. As part of their LLRW management strategies, licensees may consider operational efficiency and cost. Although the Commission continues to favor disposal in a licensed disposal facility, licensees should consider additional means available to manage waste in a manner that is secure and protects public health and safety, such as (in no particular order and thus not indicating any NRC preference):

• Waste minimization;

• Short-term storage and decay;

• Long-term storage;

• Use of the alternate disposal provision in Title 10 of the Code of Federal Regulations (10 CFR) 20.2002, “Method for obtaining approval of proposed disposal procedures;” and

• Use of waste processing technologies.

The Commission understands that limited LLRW disposal access means that many licensees will need to store at least some of their LLRW. Agreement States and NRC licensees must continue to ensure that waste is safely and securely managed. However, waste disposal is still considered the safest and most secure long-term LLRW management approach.

Dated at Rockville, Maryland, this 25th day of April 2012.
For the Nuclear Regulatory Commission.
Annette L. Vietti-Cook,
Secretary of the Commission.

[FR Doc. 2012-10433 Filed 4-30-12; 8:45 am]

BILLING CODE 7590-01-P